DEPARTMENT OF AGRICULTURE

Food Safety and Inspection Service

[Docket No. FSIS-2022-0029]

Proposed Framework for Controlling Salmonella in Poultry

AGENCY: Food Safety and Inspection Service (FSIS), U.S. Department of Agriculture (USDA).

ACTION: Notification of public meeting.

SUMMARY: FSIS is hosting a virtual public meeting to discuss a regulatory framework that the Agency is considering for a new strategy to control Salmonella in poultry products and more effectively reduce foodborne Salmonella infections linked to these products. The framework under consideration has been shaped by months of information-gathering and discussions with a wide range of stakeholders, researchers, and scientists. FSIS is seeking input from stakeholders on this proposed framework, both at the public meeting and in written comments submitted in response to this Federal Register notice before FSIS moves forward with any proposed changes to the Agency's Salmonella strategy.

DATES: The virtual public meeting will be held on Thursday, November 3, 2022, from 10 a.m.-4 p.m. EST. Submit comments on or before November 16, 2022.

ADDRESSES: The meeting will be virtual and will be viewed via the Zoom link provided by email when you register for the meeting. Attendees must be pre-registered for the meeting. See the pre-registration instructions under “Registration and Meeting Materials.”

Comments on this notice may be by one of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or courier-delivered submittals: Deliver to 1400 Independence Avenue SW, Jamie L. Whitten Building, Room 350-E, Washington, DC 20250-3700.

Instructions: All items submitted by mail or electronic mail must include the Agency name and docket number FSIS-2022-0029. Comments received in response to this docket will be made available for public inspection and posted without change, including any personal information, to https://www.regulations.gov.

Docket: For access to background documents or comments received, email docketclerk@usda.gov or call 202-692- 4235 to schedule a time to visit the FSIS Docket Room at 1400 Independence Avenue SW, Washington, DC 20250-3700.

FOR FURTHER INFORMATION CONTACT: Email Congressional and Public Affairs at: SM.FSIS.SALMONELLAMEETING@USDA.GOV.

SUPPLEMENTARY INFORMATION:

Background

FSIS is the public health agency in USDA whose mission is to ensure that meat, poultry, and egg products are safe, wholesome, and properly labeled and packaged. FSIS has used the U.S. Department of Health and Human Services' Healthy People ¹ target to set pathogen reduction goals for FSIS-regulated products over the past few decades. However, the 2010 and 2020 Healthy People targets for a reduction in Salmonella infections from all sources were not met.² The Healthy People 2030 target is to reduce Salmonella infections to a national case rate of no more than 11.5 per 100,000 consumers per year. To reach the 2030 target, illnesses must be reduced by 25%. Although this target is for Salmonella infections from all sources, FSIS has adopted the same target and aims to reduce Salmonella infections linked to all FSIS-regulated products by 25%.

¹ The Healthy People initiative guides national health promotion and disease prevention efforts to improve the health of the nation. Led by the U.S. Department of Health and Human Services (HHS) every decade since 1980, Healthy People identifies science-based objectives with targets to monitor progress and motivate and focus action.

² The Healthy People 2010 and 2020 targets were 6.8 and 11.4 Salmonella infections per 100,000 population, respectively. Between 2010 and 2017, infection rates averaged 15.8 Salmonella infections per 100,000 population.

Despite FSIS sampling data showing reductions in Salmonella contamination in poultry products, our current approach to Salmonella has not led to a demonstrable reduction in Salmonella infections to meet the Healthy People target. For example, during the five-year period from 2017 to 2021, the number of chicken product samples in which FSIS detected Salmonella decreased by more than 50%.³ However, the estimated rate of human Salmonella infections from all sources has remained consistent over the last two decades, with an estimated 1.35 million infections in the U.S. each year.⁴ The most recent report from the Interagency Food Safety Analytics Collaboration estimates that over 23% of foodborne Salmonella illnesses are attributable to poultry consumption—almost 17% from chicken and over 6% from turkey.⁵

³ FSIS Salmonella verification sampling. Available at: https://www.fsis.usda.gov/science-data/data-sets-visualizations/microbiology/salmonella-verification-testing-program-monthly.

⁴ Salmonella: Centers for Disease Control and Prevention. Available at: Salmonella https://www.cdc.gov/salmonella/index.html.

⁵ Foodborne illness source attribution estimates for 2019 for Salmonella, Escherichia coli O157, Listeria monocytogenes, and Campylobacter using multi-year outbreak surveillance data, United States. IFAC October 2021. Available at: https://www.cdc.gov/foodsafety/ifsac/pdf/P19-2019-report-TriAgency-508.pdf.

Proposed Regulatory Framework To Reduce Salmonella Illnesses Attributable to Poultry

FSIS is considering a regulatory framework for a new strategy to control Salmonella in poultry products and more effectively reduce foodborne Salmonella infections linked to these products. At the same time, FSIS is gathering scientific evidence relevant to the approaches presented in this framework. The National Advisory Committee on Microbiological Criteria for Foods (NACMF) ⁶ has been charged with providing guidance on what types of microbiological criteria FSIS might use to better prevent Salmonella infections associated with poultry products. FSIS is also completing a risk profile for pathogenic Salmonella subtypes in poultry and is collaborating on quantitative risk assessments ⁷ for Salmonella in chicken and turkey that will address key risk management questions associated with this framework. FSIS also expanded its exploratory sampling program for young chicken carcasses ⁸ to generate microbial data to help inform future policies.

⁶ 2021-2023 National Advisory Committee on Microbiological Criteria for Food. FSIS Charge: Enhancing Salmonella Control in Poultry Products. Available at: https://www.fsis.usda.gov/policy/advisory-committees/national-advisory-committee-microbiological-criteria-foods-nacmcf/2021.

⁷ FSIS Constituent Update July 1, 2022: FSIS Announces Cooperative Agreement on Salmonella Risk Assessment. Available at: https://www.fsis.usda.gov/news-events/news-press-releases/constituent-update-july-1-2022.

⁸ FSIS Notice 44-2 Revised Young Chicken Exploratory Sampling Program (August 11, 2022) Available at: https://www.fsis.usda.gov/policy/fsis-notice/44-22.

While awaiting results from these activities, FSIS is sharing the key elements that the Agency is currently considering as part of a new regulatory strategy in this framework. FSIS is soliciting additional feedback from stakeholders addressing specific questions associated with this document before moving forward with any proposed changes to regulations or other actions.

The proposed framework that is currently under consideration is available on the FSIS website at: https://www.fsis.usda.gov/news-events/events-meetings/public-meeting-reducing-salmonella-poultry.

Public Meeting

FSIS is announcing that it will hold a virtual public meeting on November 3, 2022, to discuss issues related to the regulatory framework to control Salmonella in poultry products under consideration. At this meeting, FSIS will accept public comment on the framework under consideration, which consists of three components that, together, support a comprehensive approach to controlling Salmonella in poultry. The three components under consideration are:

1. Requiring that incoming flocks be tested for Salmonella before entering an establishment;

2. Enhancing establishment process control monitoring and FSIS verification; and

3. Implementing an enforceable final product standard.

The proposed framework also addresses cross-cutting issues associated with testing for Salmonella, considerations for small and very small establishments, and data sharing.

An agenda will be published online before the public meeting. FSIS will finalize the agenda on or before the meeting date and post it on the FSIS website at: https://www.fsis.usda.gov/news-events/events-meetings/public-meeting-reducing-salmonella-poultry.

Registration and Meeting Materials

There is no fee to register for the public meeting, but pre-registration is mandatory for participants attending. All attendees must register online by visiting https://www.fsis.usda.gov/news-events/events-meetings/public-meeting-reducing-salmonella-poultry, after which they will receive an email acknowledging their registration. Stakeholders who wish to speak at the meeting must notify FSIS during registration and must register by October 24, 2022. Attendees that do not plan to speak at the public meeting may register at any time up to the day of the meeting.

Public Comments and Participation in Meetings

Public Comments: Oral Comments

Stakeholders will have an opportunity to provide oral comments on any of the 4 components of the framework under consideration, i.e., the 3 components and cross-cutting issues, during the public meeting. Oral comments will be limited to two minutes per component. Attendees must identify which component (s) they will be commenting on when they register for the public meeting and will be allowed to comment on as many components as they wish. Due to the anticipated high level of interest in the opportunity to make public comments and the limited time available to do so, FSIS will do its best to accommodate all persons who pre-registered and requested to provide oral comments. Attendees that pre-register will be allotted time to speak in the order of registration. FSIS will notify stakeholders that register to speak of the approximate time(s) they are scheduled to speak in advance of the meeting. As noted above, stakeholders will be allotted a maximum of 2 minutes to comment on each framework component, but the comment periods will take place at different times over the course of the day. FSIS encourages persons and groups who have similar interests to consolidate their information for presentation by a single representative.

Stakeholders who do not notify FSIS during registration of their wish to speak will not have the opportunity to comment on a specific framework component on the day of the public meeting. However, there will be an open comment period for general questions or comments at the end of the meeting. Stakeholders may also submit written comments using the instructions in the Addresses section above.

Panel Discussions

During the meeting, stakeholders will be organized into groups to present their oral comments for each framework component to panels comprised of FSIS leadership and experts. The primary purpose of the panels is to listen to stakeholder input, but panelists may ask questions of the stakeholders if clarification is needed.

Transcripts

As soon as the meeting transcripts are available, they will be accessible on the FSIS website at: https://www.fsis.usda.gov/news-events/events-meetings/public-meeting-reducing-salmonella-poultry. The transcripts may also be viewed at the FSIS Docket Room at the address listed above.

USDA Non-Discrimination Statement

In accordance with Federal civil rights law and U.S. Department of Agriculture (USDA) civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Paul Kiecker,
Administrator.

[FR Doc. 2022-22254 Filed 10-14-22; 8:45 am]

BILLING CODE 3410-DM-P